DEPARTMENT OF LABOR

Employment and Training Administration

[TA-W-57,728]

J.E. Morgan Knitting Mills (Sara Lee), Tamaqua, PA; Notice of Revised Determination on Reconsideration

By application of September 30, 2005, a company official requested administrative reconsideration regarding the Department's Negative Determination Regarding Eligibility to Apply for Worker Adjustment Assistance, applicable to the workers of the subject firm.

The initial investigation resulted in a negative determination issued on August 31, 2005, based on the finding that imports of long sleeve mock turtleneck shirts did not contribute importantly to worker separations at the subject plant and that there was no shift to a foreign country. The denial notice was published in the Federal Register on October 6, 2005 (70 FR 58477).

The workers at the subject facility were previously certified eligible for trade adjustment assistance (TAA) under TA-W-51,522. That TAA certification expired on May 5, 2005.

To support the request for reconsideration, the company official supplied additional information to supplement that which was gathered during the initial investigation. Upon further review, it was revealed that workers of the subject firm were also engaged in production of thermal knit underwear, shirts and drawers and knit, bleach and cutting operations. The investigation also revealed that the company shifted production of thermal knit underwear, shirts and drawers to El Salvador and Honduras during the relevant period and that this shift contributed importantly to layoffs at the subject firm.

In accordance with section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of section 246 of the Trade Act must be met. The Department has determined in this case that the requirements of section 246 have been met.

A significant number of workers at the firm are age 50 or over and possess skills that are not easily transferable. Competitive conditions within the industry are adverse.

Conclusion

After careful review of the facts obtained in the investigation, I determine that there was a shift in production from the workers' firm or subdivision to El Salvador and Honduras of articles that are like or directly competitive with those produced by the subject firm or subdivision. In accordance with the provisions of the Act, I make the following certification:

“All workers of J.E. Morgan Knitting Mills (Sara Lee), Tamaqua, Pennsylvania who became totally or partially separated from employment on or after May 6, 2005 through two years from the date of certification are eligible to apply for adjustment assistance under section 223 of the Trade Act of 1974” and

“All workers of J.E. Morgan Knitting Mills (Sara Lee), Tamaqua, Pennsylvania who became totally or partially separated from employment on or after August 12, 2004, through two years from the date of this certification, are eligible to apply for alternative trade adjustment assistance under section 246 of the Trade Act of 1974.”

Signed in Washington, DC this 17th day of November 2005.
Elliott S. Kushner,
Certifying Officer, Division of Trade Adjustment Assistance.

[FR Doc. E5-6993 Filed 12-6-05; 8:45 am]

BILLING CODE 4510-30-P